FEDERAL COMMUNICATIONS COMMISSION

[FRS 16896]

SES Performance Review Board

AGENCY: Federal Communications Commission.

ACTION: Notice.

SUMMARY: As required by the Civil Service Reform Act of 1978, Chairman Ajit Pai has appointed the following executives to the Senior Executive Service (SES) Performance Review Board (PRB): Lisa Fowlkes.

Federal Communications Commission.
Cecilia Sigmund,
Federal Register Liaison Officer.

[FR Doc. 2020-14079 Filed 6-29-20; 8:45 am]

BILLING CODE 6712-01-P